DEPARTMENT OF ENERGY

Federal Energy Regulatory Commission

[Project No. 15055-001]

Northern States Power Company; Notice of Application Tendered for Filing With the Commission and Establishing Procedural Schedule for Licensing and Deadline for Submission of Final Amendments

Take notice that the following hydroelectric application has been filed with the Commission and is available for public inspection.

a. Type of Application: Original Major License.

b. Project No.: 15055-001.

c. Date Filed: August 18, 2023.

d. Applicant: Northern States Power Company, a Wisconsin Corporation (NSP).

e. Name of Project: Gile Flowage Storage Reservoir Project (project).

f. Location: On the West Fork of the Montreal River in Iron County, Wisconsin approximately 3 miles southwest of the towns of Hurley, Wisconsin and Ironwood, Michigan.

g. Filed Pursuant to: Federal Power Act, 16 U.S.C. 791(a)-825(r).

h. Applicant Contact: Matthew Miller, Hydro License Compliance Consultant, Xcel Energy, 1414 West Hamilton Avenue, P.O. Box 8, Eau Claire, Wisconsin 54702-0008; telephone at (715) 737-1353, or email at matthew.j.miller@xcelenergy.com.

i. FERC Contact: Nicholas Ettema, telephone at (312) 596-4447, or email at nicholas.ettema@ferc.gov.

j. This application is not ready for environmental analysis at this time.

k. Project Description: The project includes the following existing facilities: (1) a 902.6-foot-long, 32.5-foot-high dam that includes: (a) a 300-foot-long west earthen embankment with a crest elevation of 1495.0 feet National Geodetic Vertical Datum of 1929 (NGVD 29); (b) a 27.6-foot-long concrete section that includes a 6-foot-wide, 6-foot-high sluice gate with a trashrack with 2.625-inch clear bar spacing, and a 16-foot-wide, 12-foot-high Tainter gate; and (c) a 575-foot-long east earthen embankment with a crest elevation of 1495.0 feet NGVD 29; (2) an impoundment with a surface area of 3,454 acres at an elevation of 1,490 feet NGVD 29 and usable storage capacity of 32,713 acre-feet between surface elevations of 1,475 feet and 1,490 feet NGVD 29; (3) a 35-foot-long concrete conduit downstream of the sluice gate; (4) an approximately 60-foot-long concrete apron downstream of the dam; (5) a 27.5-foot-wide, 11.8-foot-long brick gatehouse integral to the concrete section of the dam; and (6) appurtenant facilities. The project does not contain any generating facilities.

The project includes the following existing recreation facilities: (1) a canoe take-out site on the shoreline of the impoundment, at the east earthen embankment; (2) an approximately 100-foot-long canoe portage route; and (3) a canoe put-in site located on the east shore of the West Fork of the Montreal River, immediately downstream of the project dam.

An August 19, 2020 order, issued in FERC Docket No. UL20-1-000, found that the project is required to be licensed because it is part of a complete unit of development that includes the Saxon Falls Hydroelectric Project No. 2610 (Saxon Project) and the Superior Falls Hydroelectric Project No. 2587 (Superior Project).¹ NSP currently operates the project to augment flow in the West Fork of the Montreal River during the summer and winter low-flow periods for hydroelectric generation at the downstream Saxon and Superior Projects. NSP maintains the impoundment levels between 1,475 feet and 1,490 feet NGVD 29. To protect aquatic resources, NSP releases a continuous minimum flow of 10 cubic feet per second or inflow, whichever is less, downstream of the project dam. NSP provides the minimum flow through the sluice gate.

¹ See Northern States Power Company—Wisconsin, 172 FERC ¶ 62,093 (2020).

To augment flows available for generation at the Saxon Falls Project and Superior Falls Project, NSP typically begins drawing down the impoundment in the summer and winter, respectively around May 1 and December 1. The project has a maximum drawdown of 15 feet, but the average summer and winter drawdowns are typically 5.2 feet and 6.8 feet, respectively. The impoundment remains at the lower level until seasonal inflow refills the impoundment in the fall and spring. To protect aquatic and recreation resources, under normal project operation, NSP limits the rate of the impoundment drawdowns to 0.2 feet per day.

NSP is not proposing any new facilities or operational changes that would alter the current project operation. The proposed project boundary encompasses approximately 3,457.5 acres, including: (1) the impoundment; (2) 2.1 acres of land associated with the project facilities listed above; (3) 0.2 acre of water associated with the West Fork of the Montreal River immediately downstream of the project dam; (4) 0.3 acre of land north of the west earthen embankment; and (5) 0.9 acre of land north of the east earthen embankment.

l. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-15055). For assistance, contact FERC at FERCOnlineSupport@ferc.gov, (866) 208-3676 (toll free), or (202) 502-8659 (TTY). At this time, the Commission has suspended access to the Commission's Public Reference Room.

m. You may also register online at https://ferconline.ferc.gov/FERCOnline.aspx to be notified via email of new filings and issuances related to this or other pending projects. For assistance, contact FERC Online Support.

n. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

o. Procedural Schedule: The application will be processed according to the following preliminary schedule. Revisions to the schedule will be made as appropriate.

Milestone | Target date
Issue Deficiency Letter | September 2023.
Request Additional Information (if necessary) | September 2023.
Notice of Acceptance/Notice of Ready for Environmental Analysis | March 2024.
Filing of recommendations, preliminary terms and conditions, and preliminary fishway prescriptions | May 2024.

p. Final amendments to the application must be filed with the Commission no later than 30 days from the issuance date of the notice of ready for environmental analysis.

Dated: August 25, 2023.
Kimberly D. Bose,
Secretary.

[FR Doc. 2023-18871 Filed 8-30-23; 8:45 am]

BILLING CODE 6717-01-P